DEPARTMENT OF TRANSPORTATION

Federal Aviation Administration

14 CFR Part 39

[Docket No. FAA-2005-22471; Directorate Identifier 2005-NM-142-AD]

RIN 2120-AA64

Airworthiness Directives; Boeing Model 757 Airplanes

AGENCY: Federal Aviation Administration (FAA), Department of Transportation (DOT).

ACTION: Notice of proposed rulemaking (NPRM).

SUMMARY: The FAA proposes to adopt a new airworthiness directive (AD) for all Boeing Model 757 airplanes. This proposed AD would require repetitive measurements of the freeplay of each of the three power control units (PCUs) that move the rudder; repetitive lubrication of rudder components; and corrective actions if necessary. This proposed AD results from a report of freeplay-induced vibration of the rudder. We are proposing this AD to prevent excessive vibration of the airframe during flight, which could result in divergent flutter and loss of control of the airplane.

DATES: We must receive comments on this proposed AD by November 7, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Boeing Commercial Airplanes, P.O. Box 3707, Seattle, Washington 98124-2207, for the service information identified in this proposed AD.

FOR FURTHER INFORMATION CONTACT: Dennis Stremick, Aerospace Engineer, Airframe Branch, ANM-120S, FAA, Seattle Aircraft Certification Office, 1601 Lind Avenue, SW., Renton, Washington 98055-4056; telephone (425) 917-6450; fax (425) 917-6590.

SUPPLEMENTARY INFORMATION:

Comments Invited

We invite you to submit any relevant written data, views, or arguments regarding this proposed AD. Include the docket number “FAA-2005-22471; Directorate Identifier 2005-NM-142-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received a report of freeplay-induced flutter of the rudder during flight on a Boeing Model 757-200 series airplane. Excessive corrosion and wear of components and/or interfaces allows excessive freeplay movement of the control surfaces and can cause excessive vibration of the airframe during flight. The point of transition from vibration to divergent flutter is unknown. When divergent flutter occurs, the amplitude of each cycle or oscillation is larger than the last one and the surface can quickly reach its structural limits. This condition, if not corrected, could result in loss of control of the airplane.

Relevant Service Information

We have reviewed Boeing Special Attention Service Bulletin 757-27-0148, dated June 16, 2005 (for Model 757-200, -200CB, and -200PF series airplanes); and Boeing Special Attention Service Bulletin 757-27-0149, dated June 16, 2005 (for Model 757-300 series airplanes). The service bulletins describe procedures for measuring the freeplay for each of the three power control units (PCUs) that move the rudder. If the freeplay exceeds certain specified limits, the service bulletins describe procedures for doing applicable related investigative and corrective actions. These related investigative and corrective actions include doing a general visual inspection for wear of the affected components such as the rudder hinges, reaction link, reaction link bearings, hanger link, rod end bearings, and rudder hinge bolts, bearings, and bushings; and repairing or replacing the affected part if necessary. The corrective actions also include repeating the freeplay measurement and any related investigative and corrective actions until the maximum rudder freeplay is within acceptable limits. The service bulletins also describe procedures for repetitive lubrication of the rudder hinge, rudder PCU bearings, PCU reaction links, hanger links, and rod end bearings. The service bulletins note that if the freeplay measurement and a lubrication cycle are due at the same time, the freeplay measurement must be satisfactory before the lubrication is done. Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously.

Costs of Compliance

There are about 1,040 airplanes of the affected design in the worldwide fleet. The following table provides the estimated costs for U.S. operators to comply with this proposed AD. No parts are necessary to accomplish either action.

Estimated Costs
Action | Work hours | Average labor rate per hour ($) | Cost per airplane ($) | Number of U.S.- registered airplanes | Fleet cost ($)
Freeplay measurement | 4 | 65 | 260, per measurement cycle | 679 | 176,540, per measurement cycle.
Lubrication | 8 | 65 | 520, per lubrication cycle | 679 | 353,080, per lubrication cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Boeing: Docket No. FAA-2005-22471; Directorate Identifier 2005-NM-142-AD.

Comments Due Date

(a) The FAA must receive comments on this AD action by November 7, 2005.

Affected ADs

(b) None.

Applicability

(c) This AD applies to all Boeing Model 757-200, -200PF, -200CB, and -300 series airplanes, certificated in any category.

Unsafe Condition

(d) This AD results from a report of freeplay-induced vibration of the rudder. We are issuing this AD to prevent excessive vibration of the airframe during flight, which could result in divergent flutter and loss of control of the airplane.

Compliance

(e) You are responsible for having the actions required by this AD performed within the compliance times specified, unless the actions have already been done.

Service Bulletin References

(f) The term “service bulletin,” as used in this AD, means the Accomplishment Instructions of the following service bulletins, as applicable:

(1) For Model 757-200, -200PF, -200CB series airplanes: Boeing Special Attention Service Bulletin 757-27-0148, dated June 16, 2005; and

(2) For Model 757-300 series airplanes: Boeing Special Attention Service Bulletin 757-27-0149, dated June 16, 2005.

Repetitive Measurements

(g) Within 18 months after the effective date of this AD: Measure the freeplay for each of the three power control units that move the rudder. Repeat the measurement thereafter at intervals not to exceed 12,000 flight hours or 36 months, whichever occurs first. Do all actions required by this paragraph in accordance with the applicable service bulletin.

Related Investigative and Corrective Actions

(h) If any measurement found in paragraph (g) of this AD is outside certain limits specified in the service bulletin, before further flight: Do the applicable related investigative and corrective actions in accordance with the service bulletin.

Repetitive Lubrication

(i) Within 9 months after the effective date of this AD: Lubricate the rudder components specified in the applicable service bulletin. Repeat the lubrication thereafter at the applicable interval in paragraph (i)(1) or (i)(2) of this AD. Do all actions required by this paragraph in accordance with the applicable service bulletin.

(1) For airplanes on which BMS 3-33 grease is not used: 3,000 flight hours or 9 months, whichever occurs first.

(2) For airplanes on which BMS 3-33 grease is used: 6,000 flight hours or 18 months, whichever occurs first.

Concurrent Repetitive Cycles

(j) If a freeplay measurement required by paragraph (g) of this AD and a lubrication cycle required by paragraph (i) of this AD are due at the same time or will be accomplished during the same maintenance visit, the freeplay measurement and applicable related investigative and corrective actions must be done before the lubrication is accomplished.

Alternative Methods of Compliance (AMOCs)

(k)(1) The Manager, Seattle Aircraft Certification Office (ACO), FAA, has the authority to approve AMOCs for this AD, if requested in accordance with the procedures found in 14 CFR 39.19.

(2) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Issued in Renton, Washington, on September 7, 2005.
Kalene C. Yanamura,
Acting Manager, Transport Airplane Directorate, Aircraft Certification Service.

[FR Doc. 05-18795 Filed 9-20-05; 8:45 am]

BILLING CODE 4910-13-P